DEPARTMENT OF HEALTH AND HUMAN SERVICES

Centers for Disease Control and Prevention

[30DAY-18-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Exposure to Volatile Organic Compounds and Childhood Leukemia Incidence at MCB Camp Lejeune, North Carolina—Extension—Agency for Toxic Substances and Disease Registry (ATSDR). There is limited evidence that in utero exposure to volatile organic compounds (VOCs) such as trichloroethylene and tetrachloroethylene (PCE) in drinking water may be strongly associated with childhood leukemia (CL). In 1982, VOC contamination was identified in certain groundwater supply wells which supplied drinking water to housing units at U.S. Marine Corps Base Camp Lejeune in Jacksonville, North Carolina. In a previous health study of approximately 6,000 infants exposed in utero to this contaminated water and 6,000 unexposed births, it was shown that gestational PCE exposure was related to lower birth weights for certain subgroups. The purpose of the proposed nested case-control study is to investigate the potential relationship between exposure to VOCs in drinking water and incidence of CL at Camp Lejeune. A secondary objective of the proposed study is to investigate the potential relationship between VOCs in drinking water and birth defects in this population.

During this phase of the proposed study, an attempt will be made to locate as many of the children born to base residents between 1968 and 1985 as well as offspring from pregnancies that occurred during this time period but were not delivered at Camp Lejeune. A brief screening questionnaire will be interviewer-administered to identify potential cancer and birth defect cases. Some of the data to be collected by the questionnaire includes: confirmation of the name(s) of children and date(s) of birth; dates and location of residence on base during the pregnancy and/or at the time of delivery; current vital status of each child; the determination of diagnosis with cancer or birth defects before age 20. As a result of delays in obtaining data necessary to trace potential respondents, a renewal for this project has been requested.

It is necessary to identify each respondent in order to assess place of residence at Camp Lejeune as a measure of possible VOC exposure as well as to determine possible case status, i.e. reported diagnosis of childhood cancer or birth defect. This information will be used during the next study phase to identify potential cases and controls for the proposed nested case-control study.

With help from the U. S. Navy and U. S. Marine Corps sources, we will obtain current address information and attempt to contact respondents directly. For respondents with unknown current addresses, tracing efforts will include advertising in the general media as well as in publications directed toward Marine Corps and Navy personnel. Once the respondent is located, the questionnaire will be administered by trained interviewers over the telephone.

Respondents will be one of the following: (1) A parent who gave birth or was pregnant while residing at MCB Camp Lejeune between 1968 and 1985; (2) a parent who was pregnant while residing at MCB Camp Lejeune between 1968 and 1985 but gave birth elsewhere; or (3) an offspring of said parents. The number of births that occurred at MCB Camp Lejeune during this period is approximately 12,000. It has been estimated that approximately one-third of women who seek prenatal care while residing at Camp Lejeune are relocated before delivery. Therefore, attempts will be made to contact and interview up to an additional 4,000 respondents. Of the 16,000 total possible respondents, a conservative estimate of the number that will be located and subsequently interviewed is 13,000 (about 80%).

The hourly burden has been modified since the first submittal. This was a result of pretesting of the data collection instrument. It was found that the average completion time per survey was closer to 15 minutes as opposed to the original estimate of 9 minutes. The total annual burden hours are 1,083.

Type of respondents | Number of respondents | Number of responses/ respondent | Avg. burden of response (in hrs.)
Parent/Child born at Camp Lejeune; 1968-1985 | 9,650 | 1 | 0.25
Pregnancy at Camp Lejeune, delivery else-where; 1968-1985 | 3,350 | 1 | 0.25

Dated: February 14, 2000.
Charles Gollmar,
Acting Associate Director for Policy, Planning and Evaluation, Centers for Disease Control and Prevention (CDC).

[FR Doc. 00-4197 Filed 2-23-00; 8:45 am]

BILLING CODE 4163-18-P